DEPARTMENT OF JUSTICE

Notice of Lodging of Consent Decree Pursuant to the Clean Water Act

On September 30, 2013, the Department of Justice lodged a proposed Consent Decree (“Decree”) in the United States District Court for the Western District of Tennessee in the lawsuit entitled United States of America v. ConAgra Foods, Inc., and ConAgra Grocery Products, LLC, Civil Action No. 2:13-cv-02756. This is a revised notice from the one that was published on October 22, 2013, Vol. 78, No. 204, pages 62661-62662.

This Decree represents a settlement of claims against the Defendants ConAgra Foods, Inc., and ConAgra Grocery Products, LLC (“Defendants” or “ConAgra”) for violations of the Clean Water Act, 33 U.S.C. 1321, and Spill Prevention, Control and Countermeasure (“SPCC”) and Facility Response Plan (“FRP”) regulations found at 40 CFR Part 112. The Decree requires that the Defendants pay a civil penalty of $475,000. The Decree further requires that ConAgra implement a formal tank integrity testing program in accordance with the American Petroleum Institute's (“API”) formal standard 653. ConAgra will be required to submit a report annually to EPA summarizing the status of the tank testing and identifying which tanks were inspected during the previous calendar year and which will be inspected in the current year. The Decree provides for stipulated penalties in the event the Defendants fail to comply with the Decree's requirements.

The publication of this notice opens a period for public comment on the Consent Decree. Comments should be addressed to the Assistant Attorney General, Environment and Natural Resources Division, and should refer to United States v. ConAgra Foods, Inc., and ConAgra Grocery Products, LLC, Civil Action No. 2:13-cv-02756, D.J. Ref. No. 90-5-1-1-10403. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.25 (25 cents per page reproduction cost) payable to the United States Treasury for the Consent Decree.

Henry S. Friedman,
Assistant Section Chief, Environmental Enforcement Section, Environment and Natural Resources Division.

[FR Doc. 2013-25856 Filed 10-30-13; 8:45 am]

BILLING CODE 4410-15-P